CONSUMER PRODUCT SAFETY COMMISSION

Sunshine Act Meeting Notice

TIME AND DATE: Wednesday, November 13, 2013, 10 a.m.-12 p.m.

PLACE: Room 420, Bethesda Towers, 4330 East West Highway, Bethesda, Maryland.

STATUS: Commission Meeting—Open to the Public.

Matters To Be Considered

Decisional Matters

1. Voluntary Recall Notice NPR

2. FY 2014 Operating Plan

A live webcast of the Meeting can be viewed at www.cpsc.gov/live.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: November 5, 2013.
Todd A. Stevenson,
Secretary.

[FR Doc. 2013-26879 Filed 11-6-13; 11:15 am]

BILLING CODE 6355-01-P